DEPARTMENT OF EDUCATION

National Advisory Committee on Institutional Quality and Integrity (NACIQI) Teleconference

AGENCY: National Advisory Committee on Institutional Quality and Integrity, Office of Postsecondary Education, U.S. Department of Education.

ADDRESSES: U.S. Department of Education, Office of Postsecondary Education, 1990 K Street NW., Room 8073, Washington, DC 20006.

ACTION: Notice of open teleconference meeting of the National Advisory Committee on Institutional Quality and Integrity (NACIQI) and information related to members of the public submitting third-party written comments and/or making oral comments at the meeting.

SUMMARY: This notice sets forth the schedule and proposed agenda item for the upcoming teleconference meeting of the NACIQI, which is scheduled for Friday, April 13, 2012, and provides information for members of the public wishing to submit written comments, attend the meeting, and/or make oral comments during the meeting. The notice of this teleconference meeting is required under Section 10(a)(2) of the Federal Advisory Committee Act (FACA) and Section 114(d)(1)(B) of the Higher Education Act (HEA) of 1965, as amended.

SUPPLEMENTARY INFORMATION: The NACIQI teleconference meeting will be held on Friday, April 13, 2012, beginning at 11 a.m. and ending approximately at 2:30 p.m., Eastern Daylight Savings Time. The proposed agenda for this teleconference meeting consists of public comment, discussion, and final action pertaining to the NACIQI's draft report on the reauthorization of the Higher Education Act. The report may be accessed at http://www2.ed.gov/about/bdscomm/list/naciqi.html.

Submission of Written Comments Concerning the Committee's Report on the Reauthorization of the HEA

Written comments should be submitted as a Microsoft Word document that is attached to an electronic mail message (email) or provide comments in the body of an email message. Email messages must be received no later than Friday, March 16, 2012, by the accreditationcommittees@ed.gov with the subject line “Written Comments regarding the draft final report on the reauthorization of the HEA.”

The Department intends to post the submissions on the NACIQI Web site. To help ensure accessibility to all interested parties, we are requesting that all submissions comply with the requirements of Section 508 of the Rehabilitation Act, or be submitted in an electronic format that can be made accessible, such as Microsoft Word. However, we will accept comments in any electronic or written form provided, but comments submitted in other forms, which are inaccessible, will not be posted online. Instead we will index the inaccessible comments received and make them available upon request. Also, if copyrighted materials are submitted, written permission to post the materials on the U.S. Department of Education's NACIQI Web site must accompany the copyrighted materials.

Only materials submitted by the deadline to the email address listed in this notice, and in accordance with these instructions, become part of the official record concerning the reauthorization of the HEA report and are considered by the NACIQI in their deliberations. Do not send material directly to NACIQI members or to staff.

Registration for the Teleconference Meeting and Instructions for Requests to Make Oral Comments Concerning the Committee's Report on the Reauthorization of the HEA

The deadline for the teleconference meeting registration is Friday, March 16, 2012. Space for the teleconference meeting is limited, and you are encouraged to register early if you plan to attend. To register to attend the teleconference meeting and not make any oral comments, email your registration to accreditationcommittees@ed.gov and enter “Registration for NACIQI—No Comments” in the subject line of the message. In the body of the email message, please include your name, title, affiliation, mailing address, email address, and telephone and fax numbers.

To register to attend the teleconference meeting and request to make oral comments during the meeting, email your registration and request to make oral comments to accreditationcommittees@ed.gov and enter “Registration for NACIQI and Make Oral Comments” in the subject line of the email message. In the body of the email message, please provide your name, title, affiliation, mailing address, email address, and telephone and fax numbers as well as a brief explanation of no more than five sentences that summarize your anticipated comments.

A total of 40 minutes will be allotted for public comment. Only ten commenters will be selected on a first-come, first served basis. Each commenter will be allotted no more than four minutes. The Department will inform all requesters of their selection status in advance of the meeting. Individuals who need accommodations for a disability in order to attend the teleconference meeting should contact Cathy Sheffield at (202) 219-7011, or email accreditationcommittees@ed.gov no later than March 30, 2012. The teleconference site is accessible to individuals with disabilities.

NACIQI's Statutory Authority and Function

The NACIQI is established under Section 114 of the HEA of 1965, as amended, 20 U.S.C. 1011c. The NACIQI advises the Secretary of Education about:

• The establishment and enforcement of the criteria for recognition of accrediting agencies or associations under Subpart 2, Part H, Title IV, of the HEA, as amended.

• The recognition of specific accrediting agencies or associations or a specific State approval agency.

• The preparation and publication of the list of nationally recognized accrediting agencies and associations.

• The eligibility and certification process for institutions of higher education under Title IV, of the HEA, together with recommendations for improvement in such process.

• The relationship between (1) accreditation of institutions of higher education and the certification and eligibility of such institutions, and (2) State licensing responsibilities with respect to such institutions.

• Any other advisory function relating to accreditation and institutional eligibility that the Secretary may prescribe.

Access to Records of the Teleconference Meeting

The Department will record the teleconference meeting and post the official transcript of the teleconference meeting on the NACIQI Web site shortly after the meeting. Pursuant to the FACA, the public may also inspect the materials at 1990 K Street NW., Washington, DC, by emailing accreditationcommittees@ed.gov to schedule an appointment.

FOR FURTHER INFORMATION CONTACT: Carol Griffiths, Acting Executive Director, NACIQI, U.S. Department of Education, 1990 K Street NW., Room 8073, Washington, DC. Telephone: (202) 219-7035, or email: Carol.Griffiths@ed.gov. Individuals who use a telecommunications device for the deaf (TDD) may call the Federal Information Relay Service at 1-800-877-8339 between 8 a.m. and 8 p.m., Eastern Standard Time, Monday through Friday.

Electronic Access to This Document

The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Eduardo M. Ochoa,
Assistant Secretary for Postsecondary Education.

[FR Doc. 2012-3783 Filed 2-16-12; 8:45 am]

BILLING CODE P